DEPARTMENT OF ENERGY

Federal Energy Regulatory Commission

[Docket No. IC05-603-001, FERC-603]

Commission Information Collection Activities, Proposed Collection; Comment Request; Submitted for OMB Review

April 27, 2005.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review of this information collection requirement. Any interested person may file comments directly with OMB and should address a copy of those comments to the Commission as explained below. The Commission received no comments in response to an earlier Federal Register notice of March 14, 2005 (70 FR 12461-62) and has made this notation in its submission to OMB.

DATES: Comments on the collection of information are due by May 28, 2005.

ADDRESSES: Address comments on the collection of information to the Office of Management and Budget, Office of Information and Regulatory Affairs, Attention: Federal Energy Regulatory Commission Desk Officer. Comments to OMB should be filed electronically, c/o oira__submission@omb.eop.gov. and include the OMB Control No. as a point of reference. The Desk Officer may be reached by telephone at (202) 395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-603-001.

Documents filed electronically via the Internet must be prepared in, MS Word, Portable Document Format, Word Perfect or ASCII format. To file the document, access the Commission's Web site at http://www.ferc.gov and click on “Make an e-filing,” and then follow the instructions for each screen. First time users will have to establish a user name and password. The Commission will send an automatic acknowledgment to the sender's E-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-603 “Critical Energy Infrastructure Information.”

2. Sponsor: Federal Energy Regulatory Commission.

3. Control No.: 1902-0197.

The Commission is now requesting that OMB approve with a three-year extension of the expiration date, with no changes to the existing collection. The information filed with the Commission is mandatory.

4. Necessity of the Collection of Information: The information is used by the Commission to implement procedures for gaining access to critical energy infrastructure information (CEII) that would not otherwise be available under the Freedom of Information Act (FOIA) (5 U.S.C. 552). On February 21, 2003, the Commission issued Order No. 630 (68 FR 9857-9873), and then issued subsequent Order Nos. 630-A (68 FR 46456-60), and 649 (69 FR 48386-91) to address the appropriate treatment of CEII in the aftermath of the September 11, 2001 terrorist attacks and to restrict unrestrained general access due to the ongoing terrorism threat. These steps enable the Commission to keep sensitive infrastructure information out of the public domain, decreasing the likelihood that such information could be used to plan or execute terrorist attacks. The process adopted in these orders is a more efficient alternative for handling request for previously public documents than FOIA.

The Commission has defined CEII to include information about existing or proposed critical infrastructure that (i) relates to the production, generation, transportation, transmission, or distribution of energy; (ii) could be useful to a person planning an attack on critical infrastructure, (iii) is exempt from mandatory disclosure under the Freedom of Information Act, and (iv) does not simply give the location of the critical infrastructure. Critical infrastructure means existing and proposed systems and assets, whether physical or virtual, the incapacity or destruction of which would negatively affect security, economic security, public health or safety, or any combination of those matters. A person seeking access to CEII may file a request for that information by providing information about their identity and reason for the need for the information. Through this process, the Commission is able to review the requester's need for the information against the sensitivity of the information. The Commission implements these requirements in 18 CFR 388.113 of its regulations.

5. Respondent Description: The respondent universe currently comprises all entities requesting access to CEII information submitted to or issued by the Commission.

6. Estimated Burden: 46 total hours, 182 respondents (average per year), 1 response per respondent, and .25 hours per response (average).

7. Estimated Cost Burden to respondents: The estimated total cost to respondents is $2,392. The cost per respondent = $13. (46 hours @$52 hourly rate ÷ 182).

Statutory Authority 15 U.S.C. 717, et seq., 16 U.S.C. 791a, et seq., section 313(b) of the Federal Power Act, 16 U.S.C. 824l(b) and section 19(b) of the Natural Gas Act, 15 U.S.C. 717r(b).

Linda Mitry,
Deputy Secretary.

[FR Doc. E5-2154 Filed 5-3-05; 8:45 am]

BILLING CODE 6717-01-P